DEPARTMENT OF ENERGY

Federal Energy Regulatory Commission

Combined Notice of Filings #1

Take notice that the Commission received the following electric corporate filings:

Docket Numbers: EC17-43-000.

Applicants: Boulder Solar II, LLC, AEP Renewables, LLC.

Description: Joint Application of Boulder Solar II, LLC and AEP Renewables, LLC for Authorization of Transaction under Section 203 of the Federal Power Act and Requests for Waivers, Confidential Treatment, and Expedited Action.

Filed Date: 12/6/16.

Accession Number: 20161206-5276.

Comments Due: 5 p.m. ET 12/27/16.

Take notice that the Commission received the following electric rate filings:

Docket Numbers: ER17-492-000.

Applicants: Lark Energy Developments, Inc.

Description: Petition for Limited Waiver of Tariff Provisions and Request for Expedited Action of Lark Energy Developments, Inc.

Filed Date: 12/6/16.

Accession Number: 20161206-5168.

Comments Due: 5 p.m. ET 12/16/16.

Docket Numbers: ER17-495-000.

Applicants: Southwest Power Pool, Inc.

Description: § 205(d) Rate Filing: Revisions to Attachment AE to Add Term Instantaneous Load Capacity to be effective 2/4/2017.

Filed Date: 12/6/16.

Accession Number: 20161206-5250.

Comments Due: 5 p.m. ET 12/27/16.

Docket Numbers: ER17-496-000.

Applicants: Peak View Wind Energy LLC, Black Hills/Colorado Electric Utility Company, LP.

Description: Black Hills/Colorado Electric Utility Company, LP submits Notice of Cancellation of Market-Based Rate Tariff on behalf of Peak View Wind Energy LLC.

Filed Date: 12/6/16.

Accession Number: 20161206-5278.

Comments Due: 5 p.m. ET 12/27/16.

Docket Numbers: ER17-497-000.

Applicants: International Transmission Company.

Description: Request for Limited Waiver of Tariff Provisions and Expedited Action of International Transmission Company.

Filed Date: 12/6/16.

Accession Number: 20161206-5280.

Comments Due: 5 p.m. ET 12/27/16.

Docket Numbers: ER17-498-000.

Applicants: Consolidated Edison Company of New York, Inc.

Description: § 205(d) Rate Filing: Temporary Credit Extension to be effective 1/1/2017.

Filed Date: 12/7/16.

Accession Number: 20161207-5047.

Comments Due: 5 p.m. ET 12/28/16.

Docket Numbers: ER17-499-000.

Applicants: Arizona Public Service Company.

Description: § 205(d) Rate Filing: Service Agreement Nos. 174, 357, and 358 to be effective 11/7/2016.

Filed Date: 12/7/16.

Accession Number: 20161207-5077.

Comments Due: 5 p.m. ET 12/28/16.

Docket Numbers: ER17-500-000.

Applicants: Public Service Company of Colorado.

Description: § 205(d) Rate Filing: 20161207_Revised SAP and Clean Up Filing to be effective 1/1/2016.

Filed Date: 12/7/16.

Accession Number: 20161207-5083.

Comments Due: 5 p.m. ET 12/28/16.

Docket Numbers: ER17-501-000.

Applicants: Public Service Company of Colorado.

Description: § 205(d) Rate Filing: 20161207_Revised SAP and Clean Up Filing to be effective 4/16/2016.

Filed Date: 12/7/16.

Accession Number: 20161207-5084.

Comments Due: 5 p.m. ET 12/28/16.

Docket Numbers: ER17-502-000.

Applicants: Pacific Gas and Electric Company.

Description: § 205(d) Rate Filing: High Winds GSFA and GIA (SA 40) to be effective 2/7/2017.

Filed Date: 12/7/16.

Accession Number: 20161207-5113.

Comments Due: 5 p.m. ET 12/28/16.

Docket Numbers: ER17-503-000.

Applicants: California Independent System Operator Corporation.

Description: § 205(d) Rate Filing: 2016-12-07 Certificate of Concurrence SCE Western Antelope Dry Ranch SGIA to be effective 12/1/2016.

Filed Date: 12/7/16.

Accession Number: 20161207-5126.

Comments Due: 5 p.m. ET 12/28/16.

Docket Numbers: ER17-504-000.

Applicants: Cedar Creek Wind Energy, LLC.

Description: § 205(d) Rate Filing: Category 1 Notice re NW Region to be effective 12/8/2016.

Filed Date: 12/7/16.

Accession Number: 20161207-5136.

Comments Due: 5 p.m. ET 12/28/16.

Take notice that the Commission received the following PURPA 210(m)(3) filings:

Docket Numbers: QM17-2-000.

Applicants: East Kentucky Power Cooperative, Inc.

Description: Amendment to November 4, 2016 Application of East Kentucky Power Cooperative, Inc. for the termination of the obligation to purchase power from qualifying facilities.

Filed Date: 12/7/16.

Accession Number: 20161207-5131.

Comments Due: 5 p.m. ET 1/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2016.
Nathaniel J. Davis, Sr.,
Deputy Secretary.

[FR Doc. 2016-30127 Filed 12-14-16; 8:45 am]

BILLING CODE 6717-01-P